DEPARTMENT OF THE INTERIOR

Notice of Proposed Reinstatement of Terminated Oil and Gas Lease TXNM 100507

AGENCY: Bureau of Land Management, Interior.

ACTION: Notice.

SUMMARY: Under the provisions of Section 371(a) of the Energy Policy Act of 2005, the lessee, Chief Oil and Gas LLC, timely filed a petition for reinstatement of oil and gas lease TXNM 100507 in Wise County, TX. The lessee paid the required rental accruing from the date of termination, March 1, 2002.

No leases were issued that affect these lands. The lessee agrees to the new lease terms for rentals and royalties of $10 per acre and 16⅔ percent or 4 percentages above the existing competitive royalty rate. The lessee paid the $500 administration fee for the reinstatement of the lease and $166 cost for publishing this Notice.

The lessee met the requirements for reinstatement of the lease per Sec. 31(e) of the Mineral Leasing Act of 1920 (30 U.S.C. 188(e)). We are proposing to reinstate the lease, effective the date of termination subject to:

• The original terms and conditions of the lease;

• The increased rental of $10 per acre;

• The increased royalty of 16⅔ percent or 4 percentages above the existing competitive royalty rate; and

• The $166 cost of publishing this Notice.

FOR FURTHER INFORMATION CONTACT: Lourdes B. Ortiz, BLM, New Mexico State Office, (505) 438-7586.

Dated: October 26, 2005.
Lourdes B. Ortiz,
Land Law Examiner.

[FR Doc. 05-22622 Filed 11-14-05; 8:45 am]

BILLING CODE 4310-FB-M